ENVIRONMENTAL PROTECTION AGENCY

40 CFR Part 63

[EPA-HQ-OAR-2010-1042; FRL-9964-88-OAR]

RIN 2060-AT58

National Emission Standards for Hazardous Air Pollutants for Wool Fiberglass Manufacturing; Flame Attenuation Lines

AGENCY: Environmental Protection Agency (EPA).

ACTION: Proposed rule.

SUMMARY: The Environmental Protection Agency (EPA) is proposing to amend the national emission standards for hazardous air pollutants for flame attenuation (FA) lines in the wool fiberglass manufacturing industry. In the “Rules and Regulations” section of this Federal Register, we are publishing a direct final rule, without a prior proposed rule, that revises the compliance dates for FA lines. This direct final rule provides an additional year for affected sources to comply with the emission limits for FA lines. The EPA can give sources up to 3 years to comply with emission limits in the Clean Air Act (CAA) standards. FA lines initially were given 2 years to comply with the emission limits, and we are extending that compliance date to the maximum of 3 years while we conduct our review. This compliance date extension will enable the EPA to conduct a review of the emission limits for FA lines in light of recently submitted corrected source emissions data. If we receive no adverse comment, we will not take further action on this proposed rule.

DATES: The EPA must receive written comments on or before August 28, 2017.

Public Hearing. If requested by August 3, 2017, the EPA will hold a public hearing to accept oral comments on this proposed action. To request a hearing, to register to speak at a hearing, or to inquire if a hearing will be held, please contact Aimee St. Clair at (919) 541-1063 or by email at stclair.aimee@epa.gov. EPA will publish a document in the Federal Register announcing the date and location if a public hearing is requested.

ADDRESSES: Submit your comments, identified by Docket ID No. EPA-HQ-OAR-2010-1042, at http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit http://www2.epa.gov/dockets/commenting-epa-dockets.

FOR FURTHER INFORMATION CONTACT: Mr. Brian Storey, Sector Policies and Programs Division (D243-04), Office of Air Quality Planning and Standards, U.S. Environmental Protection Agency, Research Triangle Park, North Carolina 27711; telephone number: (919) 541-1103; fax number: (919) 541-5450; and email address: storey.brian@epa.gov.

SUPPLEMENTARY INFORMATION:

I. Why is the EPA issuing this proposed rule?

This document proposes to take action on amendments to the National Emission Standards for Hazardous Pollutants for Wool Fiberglass Manufacturing. We have published a direct final rule to amend 40 CFR part 63, subpart NNN by revising the compliance dates for FA lines in the “Rules and Regulations” section of this Federal Register because we view this as a noncontroversial action and anticipate no adverse comment. We have explained our reasons for this action in the preamble to the direct final rule.

If we receive no adverse comment, we will not take further action on this proposed rule. If we receive adverse comment on a distinct portion of the direct final rule, we will withdraw that portion of the rule and it will not take effect. In this instance, we would address all public comments in any subsequent final rule based on this proposed rule. In any subsequent final rule, the EPA intends to examine whether there is “good cause,” under 5 U.S.C. 553(d)(3), to designate the publication date of the final rule (based on the parallel proposal) as the effective date for implementation of the final rule.

If we receive adverse comment on a distinct provision of the direct final rule, we will publish a timely withdrawal in the Federal Register indicating which provisions we are withdrawing. The provisions that are not withdrawn will become effective on the date set out in the direct final rule, notwithstanding adverse comment on any other provision. We do not intend to institute a second comment period on this action. Any parties interested in commenting must do so at this time.

The regulatory text for this proposal is identical to that for the direct final rule published in the “Rules and Regulations” section of this Federal Register. For further supplementary information, the detailed rationale for this proposal, and the regulatory revisions, see the direct final rule published in the “Rules and Regulations” section of this Federal Register.

II. Does this action apply to me?

Categories and entities potentially regulated by this proposed rule include:

Category | NAICS code ¹
Wool fiberglass manufacturing facilities | 327993
¹ North American Industry Classification System.

This table is not intended to be exhaustive, but rather provides a guide for readers regarding entities likely to be regulated by this proposed rule. To determine whether your facility is affected, you should examine the applicability criteria in 40 CFR 63.1380. If you have any questions regarding the applicability of any aspect of this action to a particular entity, consult either the air permitting authority for the entity or your EPA Regional representative as listed in 40 CFR 63.13.

III. Statutory and Executive Orders

For a complete discussion of the administrative requirements applicable to this action, see the direct final rule in the “Rules and Regulations” section of this Federal Register.

Dated: July 6, 2017.
E. Scott Pruitt,
Administrator.

[FR Doc. 2017-14943 Filed 7-26-17; 8:45 am]

BILLING CODE 6560-50-P